DEPARTMENT OF THE INTERIOR

Bureau of Ocean Energy Management

[MMAA104000]

Notice on Outer Continental Shelf Oil and Gas Lease Sales

AGENCY: Bureau of Ocean Energy Management (BOEM), Interior.

ACTION: List of Restricted Joint Bidders

SUMMARY: Pursuant to the authority vested in the Director of the Bureau of Ocean Energy Management by the joint bidding provisions of 30 CFR 556.41, each entity within one of the following groups are restricted from bidding with any entity in any of the other following groups at Outer Continental Shelf oil and gas lease sales to be held during the bidding period May 1, 2014, through October 31, 2014. This List of Restricted Joint Bidders will cover the period May 1, 2014, through October 31, 2014, and replace the prior list published on

October 28, 2013, which covered the period of November 1, 2013, through April 30, 2014.

Group I | BP America Production Company.
| BP Exploration & Production Inc.
| BP Exploration (Alaska) Inc.
Group II | Chevron Corporation.
| Chevron U.S.A. Inc.
| Chevron Midcontinent, L.P.
| Unocal Corporation.
| Union Oil Company of California.
| Pure Partners, L.P.
Group III | Eni Petroleum Co. Inc.
| Eni Petroleum US LLC.
| Eni Oil US LLC.
| Eni Marketing Inc.
| Eni BB Petroleum Inc.
| Eni US Operating Co. Inc.
| Eni BB Pipeline LLC.
Group IV | Exxon Mobil Corporation.
| ExxonMobil Exploration Company.
Group V | Petroleo Brasileiro S.A.
| Petrobras America Inc.
Group VI | Shell Oil Company.
| Shell Offshore Inc.
| SWEPI LP.
| Shell Frontier Oil & Gas Inc.
| SOI Finance Inc.
| Shell Gulf of Mexico Inc.
Group VII | Statoil ASA.
| Statoil Gulf of Mexico LLC.
| Statoil USA E&P Inc.
| Statoil Gulf Properties Inc.
Group VIII | Total E&P USA, Inc.

Dated: April 28, 2014.
Tommy P. Beaudreau,
Director, Bureau of Ocean Energy Management.

[FR Doc. 2014-10164 Filed 5-2-14; 8:45 am]

BILLING CODE 4310-MR-P